DEPARTMENT OF COMMERCE

National Oceanic and Atmospheric Administration

RIN 0648-XE887

Notice of Intent To Prepare an Environmental Assessment on the Issuance of Incidental Take Authorizations in Cook Inlet, Alaska

AGENCY: National Marine Fisheries Service (NMFS), National Oceanic and Atmospheric Administration (NOAA), Commerce.

ACTION: Notice; Intent to prepare and Environmental Assessment.

SUMMARY: The National Marine Fisheries Service announces: (1) Its intent to prepare an Environmental Assessment (EA) to analyze the environmental impacts of issuing annual incidental harassment authorizations (IHAs) pursuant to the Marine Mammal Protection Act (MMPA) for the taking of marine mammals incidental to anthropogenic activities in the waters of Cook Inlet, Alaska, for the 2017 season; and (2) its intent to continue an annual cycle for issuing MMPA IHAs in Cook Inlet such that companies planning to submit IHA applications for work to be conducted in Cook Inlet in 2017 do so by no later than October 15, 2016. Further, we refer prospective applicants to our new Technical Guidance for Assessing the Effects of Anthropogenic Sound on Marine Mammal Hearing (http://www.nmfs.noaa.gov/pr/acoustics/guidelines.htm), which should be used in the analysis of auditory effects.

DATES: Applicants should submit applications to the Permits and Conservation Division in the Office of Protected Resources by October 15, 2016.

ADDRESSES: Applications should be addressed to Jolie Harrison, Chief, Permits and Conservation Division, Office of Protected Resources, National Marine Fisheries Service, 1315 East-West Highway, Silver Spring, MD 20910. The mailbox address for providing applications is itp.youngkin@noaa.gov. Applications sent via email, including all attachments, must not exceed a 25-megabyte file size. NMFS is not responsible for applications sent to addresses other than those provided here.

Instructions: All applications received are a part of the public record and will generally be posted to http://www.nmfs.noaa.gov/pr/permits/incidental.htm. All personal identifying information (for example, name, address, etc.) voluntarily submitted by the commenter may be publicly accessible. Do not submit confidential business information or otherwise sensitive or protected information.

FOR FURTHER INFORMATION CONTACT: Dale Youngkin, Office of Protected Resources, NMFS, (301) 427-8426.

SUPPLEMENTARY INFORMATION:

Background

Sections 101 (a)(5)(A) and (D) of the MMPA (16 U.S.C. 1361 et seq.) direct the Secretary of Commerce to allow, upon request, the incidental, but not intentional taking of small numbers of marine mammals by U.S. citizens who engage in a specified activity (other than commercial fishing) within a specified geographical region if certain findings are made and either regulations are issued or, if the taking is limited to harassment for a period of one year or less, a notice of proposed authorization is provided to the public for review. The term “take” under the MMPA means “to harass, hunt, capture or kill, or attempt to harass, hunt, capture, or kill.” Except with respect to certain activities not pertinent here, the MMPA defines “harassment” as “any act of pursuit, torment, or annoyance which (i) has the potential to injure a marine mammal or marine mammal stock in the wild (Level A harassment); or (ii) has the potential to disturb a marine mammal or marine mammal stock in the wild by causing disruption of behavioral patterns, including, but not limited to, migration, breathing, nursing, breeding, feeding, or sheltering (Level B harassment).”

Authorization for incidental takings shall be granted if NMFS finds that the taking will have a negligible impact on the species or stock(s), will not have an unmitigable adverse impact on the availability of the species or stock(s) for subsistence uses (where relevant), and if the permissible methods of taking and requirements pertaining to the mitigation, monitoring, and reporting of such takings are set forth. NMFS has defined “negligible impact” in 50 CFR 216.103 as “an impact resulting from the specified activity that cannot be reasonably expected to, and is not reasonably likely to, adversely affect the species or stock through effects on annual rates of recruitment or survival.”

Concern for Cook Inlet Beluga Whales

Cook Inlet is a semi-enclosed tidal estuary located in southcentral Alaska and home to the Cook Inlet beluga whale, a small resident population that was designated as depleted under the MMPA and listed as an endangered species under the Endangered Species Act (ESA) in 2008. The stock has not recovered, despite implementing subsistence hunting regulations in 1999, and cessation of hunting in 2007. In light of this, and in recognition of the increasing industrial activity and development in Cook Inlet, NMFS has taken a number of actions that reflect the high level of concern for the species, including:

(1) On October 14, 2014, NMFS announced its intent to prepare an Environmental Impact Statement (EIS) pursuant to the National Environmental Policy Act to analyze the effects on the human environment of issuing authorizations for the incidental take of marine mammals from activities occurring in both the state and Federal waters of Cook Inlet, AK, from Knik Arm in the northern part of the Inlet to the southern edge of Kachemak Bay on the southeastern part of the Inlet and to the southern edge of Cape Douglas on the southwestern part of the Inlet (“Cook Inlet beluga EIS”). NMFS included a 75-day public comment period for the Notice of Intent and conducted a scoping meeting in Anchorage Alaska on November 3, 2014.

(2) On November 3, 2014, NMFS convened a multi-stakeholder meeting in Anchorage Alaska: Conservation and Recovery of Cook Inlet Beluga Whales in the Context of Continued Development. The purpose of the meeting was to engage stakeholders and begin exploring Cook Inlet specific solutions for mitigating and monitoring adverse effects on belugas, while also allowing for sustainable development. The first day of the two-day workshop was devoted to background and updates related to the status, ecology, and stressors of Cook Inlet belugas and the standards set by the MMPA and the ESA. The second day included an exploration of measures and strategies to minimize anthropogenic impacts, promote recovery, and increase understanding of impacts, as well as a discussion of these objectives in the context of ensuring MMPA and ESA compliance for future activities.

(3) In May 2015, NMFS unveiled its “Species in the Spotlight: Survive to Thrive” initiative. This initiative includes targeted efforts vital for stabilizing eight species—including the Cook Inlet beluga whale—identified among the most at risk for extinction. The approach involves intensive human efforts to stabilize these species, with the goal that they will become candidates for recovery.

(4) On May 15, 2015, NMFS released the Draft Recovery Plan for Cook Inlet Beluga Whale. The population continues to show a negative trend, despite the cessation of subsistence since 2007. Although the exact cause of the continued decline in the absence of subsistence hunting is unknown, the Recovery Plan identifies likely threats, including three threats of high relative concern: Noise, catastrophic events, and the cumulative and synergistic effects of multiple stressors. Threats of medium relative concern include disease, habitat loss or degradation, reduction in prey, and unauthorized take. Due to an incomplete understanding of the threats facing Cook Inlet beluga whales, NMFS is unable to identify with certainty the actions that will most immediately encourage recovery. Until we know which threats are limiting recovery, the strategy of the Recovery Plan is to focus on threats identified as medium or high concern.

Announcements

The actions summarized above are multi-year efforts that are not likely to result in substantial changes in the short-term. NMFS announces here additional steps to help inform agency decision making in the interim.

The preparation of an EIS is a lengthy and intensive process that, in the case of the for Cook Inlet beluga EIS, will likely take two or more years. Accordingly, in recognition of our ongoing concern over Cook Inlet belugas, while the Cook Inlet beluga EIS is being prepared, NMFS will develop an Environmental Assessment (EA) to analyze the effects of issuing of multiple, concurrent, one-year MMPA authorizations to take Cook Inlet beluga whales. An EA will aid us in more effectively assessing the cumulative effects of multiple activities and to more comprehensively consider a range of mitigation and monitoring measures in the context of the multiple activities.

MMPA Authorization Cycle (Application Deadlines)

To support NMFS' efforts to prepare an EA that covers multiple MMPA incidental harassment authorizations, NMFS is continuing an application cycle for incidental harassment authorizations that include Cook Inlet beluga whales for the 2017 open water season. NMFS requests all prospective MMPA incidental harassment authorization applicants for a given open water season to submit their applications by October 15th of the preceding calendar year (unless the activity is scheduled to occur before May, in which case they should be submitted earlier). Further, we refer potential applicants to our new Technical Guidance for Assessing the Effects of Anthropogenic Sound on Marine Mammal Hearing (http://www.nmfs.noaa.gov/pr/acoustics/guidelines.htm), which should be used in the analysis of auditory effects in an application. Receipt of those MMPA applications by October 15th will aid NMFS in the development of a timely and well-informed EA and related MMPA authorizations.

Dated: September 22, 2016.
Donna S. Wieting,
Director, Office of Protected Resources, National Marine Fisheries Service.

[FR Doc. 2016-23327 Filed 9-27-16; 8:45 am]

BILLING CODE 3510-22-P